DEPARTMENT OF HOMELAND SECURITY

Federal Emergency Management Agency

[Internal Agency Docket No. FEMA-3331-EM; Docket ID FEMA-2011-0001]

Connecticut; Amendment No. 1 to Notice of an Emergency Declaration

AGENCY: Federal Emergency Management Agency, DHS.

ACTION: Notice.

SUMMARY: This notice amends the notice of an emergency declaration for the State of Connecticut (FEMA-3331-EM), dated August 27, 2011, and related determinations.

DATES: Effective Date: September 2, 2011.

FOR FURTHER INFORMATION CONTACT: Peggy Miller, Office of Response and Recovery, Federal Emergency Management Agency, 500 C Street, SW., Washington, DC 20472, (202) 646-3886.

SUPPLEMENTARY INFORMATION: The notice of an emergency declaration for the State of Connecticut is hereby amended to include the Individuals and Households Program under Section 408 of the Stafford Act, 42 U.S.C. 5174, in the following areas among those areas determined to have been adversely affected by the event declared an emergency by the President in his declaration of August 27, 2011.

The counties of Fairfield, Hartford, Litchfield, Middlesex, New Haven, New Tolland, Tolland and Windham for the Individuals and Households Program under Section 408 of the Stafford Act, 42 U.S.C. 5174 (already designated for emergency protective measures [Category B], including direct federal assistance, under the Public Assistance program).

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.)

W. Craig Fugate,
Administrator, Federal Emergency Management Agency.

[FR Doc. 2011-23213 Filed 9-9-11; 8:45 am]

BILLING CODE 9111-23-P